SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov;

(SSA), Social Security Administration, DCRDP, Attn: Reports Clearance Director, 107 Altmeyer Building, 6401 Security Blvd., Baltimore, MD 21235, Fax: 410-966-2830, Email address: OR.Reports.Clearance@ssa.gov.

The information collections below are pending at SSA. SSA will submit them to OMB within 60 days from the date of this notice. To be sure we consider your comments, we must receive them no later than December 31, 2013. Individuals can obtain copies of the collection instruments by writing to the above email address.

1. Request for Waiver of Special Veterans Benefits (SVB) Overpayment Recovery or Change in Repayment Rate—20 CFR 408.900-408.950-0960-0698. Title VIII of the Social Security Act requires SSA to pay a monthly benefit to qualified World War II veterans who reside outside the United States. When an overpayment in this SVB occurs, the beneficiary can request a waiver of recovery of the overpayment or a change in the repayment rate. SSA uses the SSA-2032-BK to obtain the information necessary to establish whether the claimant meets the waiver of recovery provisions of the overpayment, and to determine the repayment rate if we do not waive repayment. Respondents are SVB beneficiaries who have overpayments on their Title VIII record and wish to file a claim for waiver of recovery or change in repayment rate.

Type of Request: Revision of an OMB-approved information collection.

Modality of completion | Number of respondents | Frequency of response | Average burden per response (minutes) | Estimated total annual burden (hours)
SSA-2032-BK | 450 | 1 | 120 | 900

2. Benefit Offset National Demonstration—0960-0785. SSA is undertaking the Benefit Offset National Demonstration (BOND)—a demonstration and evaluation of policy changes and services on the Social Security Disability Insurance (SSDI) program—in an effort to produce strong evidence about the effectiveness of potential solutions that would improve the historically very low rate of return to work among SSDI beneficiaries. Under current law, Social Security beneficiaries lose their SSDI benefit if they have earnings or work activity above the threshold of Substantial Gainful Activity. The benefit-offset component of this demonstration reduces benefits by $1 for each $2 in earnings above the BOND threshold, resulting in a gradual reduction in benefits as earnings increase. The experimental design for BOND tests a benefit offset alone and in conjunction with enhanced work incentives counseling. The central research questions include:

• What is the effect of the benefit offset alone on employment and other outcomes?

• What is the effect of the benefit offset in combination with enhanced work incentives counseling on employment and other outcomes?

The public survey data collections have four components—an impact study, a cost-benefit analysis, a participation analysis, and a process study. The data collections are a primary source for data to measure the effects of a more generous benefit offset and the provision of enhanced work incentives counseling on SSDI beneficiaries' work efforts and earnings. Ultimately, these data will benefit researchers, policy analysts, policy makers and the United States Congress in a wide range of program areas. The effects of BOND on the well-being of SSDI beneficiaries could manifest themselves in many dimensions and could be relevant to an array of other public programs. This project offers the first opportunity to obtain reliable measures of these effects based upon a nationally representative sample. The long-term indirect benefits of this research are therefore likely to be substantial. Respondents are SSDI beneficiaries and concurrent SSDI beneficiaries and Supplemental Security Income recipients who we randomly assign to the study (Stage 1), and SSDI beneficiaries who agree to participate in the study (Stage 2).

Type of Request: Revision of an OMB-approved information collection.

Modality of completion | Number of respondents | Frequency of response | Number of responses | Average burden per response (minutes) | Estimated total annual burden (hours)
Participation Agreement | 12,954 | 1 | 12,954 | 20 | 4,318
Baseline Survey | 12,954 | 1 | 12,954 | 41 | 8,852
Stage 2, 12-month Interim Survey | 10,363 | 1 | 10,363 | 29 | 5,008
Stage 1, 36-month Survey | 8,000 | 1 | 8,000 | 49 | 6,533
Stage 2, 36-month Survey | 10,363 | 1 | 10,363 | 60 | 10,363
Enhanced Work Incentives Assessment | 3,089 | 1 | 3,089 | 35 | 1,802
Key Informant Interviews | 100 | 7 | 700 | 60 | 700
Stage 2, Participant Focus Groups | 600 | 1 | 600 | 90 | 900
Stage 1, First Contact Letter Survey | 500 | 1 | 500 | 3 | 25
Totals | 89,923 |  | 59,523 |  | 38,501

Dated: October 29, 2013.
Faye Lipsky,
Reports Clearance Director, Social Security Administration.

[FR Doc. 2013-26054 Filed 10-31-13; 8:45 am]

BILLING CODE 4191-02-P